DEPARTMENT OF ENERGY

Federal Energy Regulatory Commission

Combined Notice of Filings #1

September 1, 2010.

Take notice that the Commission received the following electric corporate filings:

Docket Numbers: EC10-86-000.

Applicants: NRG South Central Generating LLC, CottonWood Energy Company LP.

Description: Cottonwood Energy Company LP submits application for authorization under Section 203 of the Federal Power Act.

Filed Date: 08/26/2010.

Accession Number: 20100827-0205.

Comment Date: 5 p.m. Eastern Time on Thursday, September 16, 2010.

Docket Numbers: EC10-90-000.

Applicants: Central Vermont Public Service Corp.

Description: Application under Section 203 of the Federal Power Act of Central Vermont Public Service Corporation for the Merger of Facilities.

Filed Date: 08/31/2010.

Accession Number: 20100831-5246.

Comment Date: 5 p.m. Eastern Time on Tuesday, September 21, 2010.

Take notice that the Commission received the following electric rate filings:

Docket Numbers: ER10-1304-002.

Applicants: DownEast Power Company, LLC.

Description: DownEast Power Company, LLC submits tariff filing per 35: eTariff Compliance Filing to be effective 9/1/2010.

Filed Date: 08/31/2010.

Accession Number: 20100831-5127.

Comment Date: 5 p.m. Eastern Time on Tuesday, September 21, 2010.

Docket Numbers: ER10-1467-001.

Applicants: Ohio Edison Company.

Description: Ohio Edison Company submits tariff filing per 35: Compliance-Remove Headers to be effective 6/17/2010.

Filed Date: 09/01/2010.

Accession Number: 20100901-5115.

Comment Date: 5 p.m. Eastern Time on Wednesday, September 22, 2010.

Docket Numbers: ER10-1469-001.

Applicants: The Cleveland Electric Illuminating Comp.

Description: The Cleveland Electric Illuminating Company submits tariff filing per 35: Compliance filing Remove Headers to be effective 6/17/2010.

Filed Date: 09/01/2010.

Accession Number: 20100901-5054.

Comment Date: 5 p.m. Eastern Time on Wednesday, September 22, 2010.

Docket Numbers: ER10-1468-001.

Applicants: The Toledo Edison Company.

Description: The Toledo Edison Company submits tariff filing per 35: Compliance Filing Remove Headers 2 to be effective 6/17/2010.

Filed Date: 08/31/2010.

Accession Number: 20100831-5132.

Comment Date: 5 p.m. Eastern Time on Tuesday, September 21, 2010.

Docket Numbers: ER10-1720-001.

Applicants: Dry Lake Wind Power II LLC.

Description: Dry Lake Wind Power II LLC submits an amendment to Section III.A of their application to demonstrate that Dry Lake II lacks generation market power within the Arizona Public Service Company balancing authority area, effective 9/4/2010.

Filed Date: 08/31/2010.

Accession Number: 20100831-5147.

Comment Date: 5 p.m. Eastern Time on Tuesday, September 21, 2010.

Docket Numbers: ER10-1736-001.

Applicants: Wisconsin Electric Power Company.

Description: Wisconsin Electric Power Company's Compliance Filing; Second Revised Rate Schedule FERC No. 88, Third Revised Sheet No. 38 Superseding Substitute Second Revised Sheet No. 38.

Filed Date: 08/31/2010.

Accession Number: 20100831-5248.

Comment Date: 5 p.m. Eastern Time on Tuesday, September 07, 2010.

Docket Numbers: ER10-1777-001.

Applicants: Sundevil Power Holdings, LLC.

Description: Sundevil Power Holdings, LLC submits tariff filing per 35.17(b): Supplement to Market-Based Rate Application to be effective 8/16/2010.

Filed Date: 08/26/2010.

Accession Number: 20100826-5115.

Comment Date: 5 p.m. Eastern Time on Thursday, September 09, 2010.

Docket Numbers: ER10-2068-002.

Applicants: Delaware City Refining Company LLC.

Description: Delaware City Refining Company LLC submits tariff filing per 35: Revised Change in Status Notification to be effective 10/1/2010.

Filed Date: 09/01/2010.

Accession Number: 20100901-5158.

Comment Date: 5 p.m. Eastern Time on Wednesday, September 22, 2010.

Docket Numbers: ER10-2077-001.

Applicants: PBF Power Marketing LLC.

Description: PBF Power Marketing LLC submits tariff filing per 35: Revised Change in Status Notification to be effective 10/1/2010.

Filed Date: 09/01/2010.

Accession Number: 20100901-5161.

Comment Date: 5 p.m. Eastern Time on Wednesday, September 22, 2010.

Docket Numbers: ER10-2092-002.

Applicants: Boralex Ashland LP.

Description: Boralex Ashland LP submits tariff filing per 35: Boralex Ashland LP Baseline Compliance to be effective 8/3/2010.

Filed Date: 09/01/2010.

Accession Number: 20100901-5084.

Comment Date: 5 p.m. Eastern Time on Wednesday, September 22, 2010.

Docket Numbers: ER10-2117-002.

Applicants: Boralex Livermore Falls LP.

Description: Boralex Livermore Falls LP submits tariff filing per 35: Boralex Livermore Falls LP Baseline Compliance to be effective 8/5/2010.

Filed Date: 09/01/2010.

Accession Number: 20100901-5079.

Comment Date: 5 p.m. Eastern Time on Wednesday, September 22, 2010.

Docket Numbers: ER10-2118-002.

Applicants: Boralex Stratton Energy LP.

Description: Boralex Stratton Energy LP submits tariff filing per 35: Boralex Stratton Energy LP Baseline Compliance to be effective 8/5/2010.

Filed Date: 09/01/2010.

Accession Number: 20100901-5081.

Comment Date: 5 p.m. Eastern Time on Wednesday, September 22, 2010.

Docket Numbers: ER10-2119-002.

Applicants: Boralex Fort Fairfield LP.

Description: Boralex Fort Fairfield LP submits tariff filing per 35: Boralex Fort Fairfield LP Baseline Compliance to be effective 8/5/2010.

Filed Date: 09/01/2010.

Accession Number: 20100901-5083.

Comment Date: 5 p.m. Eastern Time on Wednesday, September 22, 2010.

Docket Numbers: ER10-2294-001.

Applicants: ORNI 18, LLC.

Description: ORNI 18, LLC submits tariff filing per 35: ORNI 18 Baseline MBR Filing to be effective 8/31/2010.

Filed Date: 08/31/2010.

Accession Number: 20100831-5109.

Comment Date: 5 p.m. Eastern Time on Tuesday, September 21, 2010.

Docket Numbers: ER10-2322-001.

Applicants: BE Ironwood LLC.

Description: BE Ironwood LLC submits tariff filing per 35: eTariff Compliance Filing to be effective 9/1/2010.

Filed Date: 08/31/2010.

Accession Number: 20100831-5188.

Comment Date: 5 p.m. Eastern Time on Tuesday, September 21, 2010.

Docket Numbers: ER10-2324-001.

Applicants: BE KJ LLC.

Description: BE KJ LLC submits tariff filing per 35: eTariff Compliance Filing to be effective 9/1/2010.

Filed Date: 08/31/2010.

Accession Number: 20100831-5187.

Comment Date: 5 p.m. Eastern Time on Tuesday, September 21, 2010.

Docket Numbers: ER10-2327-001.

Applicants: Cedar Brakes II LLC.

Description: Cedar Brakes II LLC submits its baseline eTariff filing of Rate Schedule FERC No. 1 in Compliance with Order 614, to be effective 9/1/2010.

Filed Date: 08/31/2010.

Accession Number: 20100831-5186.

Comment Date: 5 p.m. Eastern Time on Tuesday, September 21, 2010.

Docket Numbers: ER10-2490-000.

Applicants: The Dayton Power and Light Company.

Description: The Dayton Power and Light Company submits tariff filing per 35.12: FERC Electric Tariff, Volume No. 6 to be effective 8/31/2010.

Filed Date: 08/31/2010.

Accession Number: 20100831-5106.

Comment Date: 5 p.m. Eastern Time on Tuesday, September 21, 2010.

Docket Numbers: ER10-2491-000.

Applicants: DPL Energy, LLC.

Description: DPL Energy, LLC. submits tariff filing per 35.12: FERC Rate Schedule No. 1 to be effective 8/31/2010.

Filed Date: 08/31/2010.

Accession Number: 20100831-5117.

Comment Date: 5 p.m. Eastern Time on Tuesday, September 21, 2010.

Docket Numbers: ER10-2492-000.

Applicants: Public Service Company of New Mexico.

Description: Public Service Company of New Mexico submits tariff filing per 35.12: Electric Coordination Tariff No. 1 to be effective 8/31/2010.

Filed Date: 08/31/2010.

Accession Number: 20100831-5125.

Comment Date: 5 p.m. Eastern Time on Tuesday, September 21, 2010.

Docket Numbers: ER10-2493-000.

Applicants: DPL Energy, LLC.

Description: DPL Energy, LLC. submits tariff filing per 35.12: FERC Electric Tariff, Vol. No. 2 to be effective 8/31/2010.

Filed Date: 08/31/2010.

Accession Number: 20100831-5128.

Comment Date: 5 p.m. Eastern Time on Tuesday, September 21, 2010.

Docket Numbers: ER10-2494-000.

Applicants: Unitil Power Corp.

Description: Unitil Power Corp. submits tariff filing per 35.12: UPC Market Based Rate Tariff Baseline Filing to be effective 8/31/2010.

Filed Date: 08/31/2010.

Accession Number: 20100831-5133.

Comment Date: 5 p.m. Eastern Time on Tuesday, September 21, 2010.

Docket Numbers: ER10-2495-000.

Applicants: Fulgora Arbitrage Fund, LLC.

Description: Fulgora Arbitrage Fund, LLC submits tariff filing per 35.12: Application for Market-Based Rate Authorization of Fulgora Arbitrage Fund, LLC to be effective 9/15/2010.

Filed Date: 08/31/2010.

Accession Number: 20100831-5134.

Comment Date: 5 p.m. Eastern Time on Tuesday, September 21, 2010.

Docket Numbers: ER10-2496-000.

Applicants: Midwest Independent Transmission System Operator, Inc.

Description: Midwest Independent Transmission System Operator, Inc. submits tariff filing per 35.13(a)(2)(iii): Section 7 Errata_7.16.2 to be effective 10/26/2010.

Filed Date: 08/31/2010.

Accession Number: 20100831-5148.

Comment Date: 5 p.m. Eastern Time on Tuesday, September 21, 2010.

Docket Numbers: ER10-2497-000.

Applicants: Alliant Energy Corporate Services, Inc.

Description: Alliant Energy Corporate Services, Inc. submits tariff filing per 35.12: Baseline Alliant Energy Corporate Services Agreements to be effective 9/1/2010.

Filed Date: 08/31/2010.

Accession Number: 20100831-5167.

Comment Date: 5 p.m. Eastern Time on Tuesday, September 21, 2010.

Docket Numbers: ER10-2498-000.

Applicants: South Carolina Electric & Gas Transmission.

Description: South Carolina Electric & Gas Transmission submits tariff filing per 35.12: Compliance filing for WR, NMST and Cost-Based Tariffs to be effective 3/30/2010.

Filed Date: 08/31/2010.

Accession Number: 20100831-5175.

Comment Date: 5 p.m. Eastern Time on Tuesday, September 21, 2010.

Docket Numbers: ER10-2499-000.

Applicants: Westar Energy, Inc.

Description: Westar Energy, Inc. submits tariff filing per 35.12: Westar Energy, OATT Baseline Filing to be effective 8/31/2010.

Filed Date: 08/31/2010.

Accession Number: 20100831-5183.

Comment Date: 5 p.m. Eastern Time on Tuesday, September 21, 2010.

Docket Numbers: ER10-2500-000.

Applicants: Arizona Public Service Company.

Description: Arizona Public Service Company submits tariff filing per 35.12: Baseline Open Access Transmission Tariff, FERC Electric Tariff, Volume No. 2 to be effective 8/31/2010.

Filed Date: 08/31/2010.

Accession Number: 20100831-5194.

Comment Date: 5 p.m. Eastern Time on Tuesday, September 21, 2010.

Docket Numbers: ER10-2501-000.

Applicants: Midwest Independent Transmission System Operator, Inc.

Description: Midwest Independent Transmission System Operator, Inc. submits tariff filing per 35.13(a)(2)(iii): METC-Consumers DTIA to be effective 9/1/2010.

Filed Date: 08/31/2010.

Accession Number: 20100831-5206.

Comment Date: 5 p.m. Eastern Time on Tuesday, September 21, 2010.

Docket Numbers: ER10-2502-000.

Applicants: Black Hills/Colorado Electric Utility Company, LP.

Description: Black Hills/Colorado Electric Utility Company, LP submits tariff filing per 35.12: Baseline MBR Tariff Filing of Black Hills/Colorado Electric Utility Company, LP to be effective 9/2/2010.

Filed Date: 08/31/2010.

Accession Number: 20100831-5210.

Comment Date: 5 p.m. Eastern Time on Tuesday, September 21, 2010.

Docket Numbers: ER10-2503-000.

Applicants: Indiana Michigan Power Company, Appalachian Power Company, AEP Texas Central Company, Ohio Power Company, Public Service Company of Oklahoma, Southwestern Electric Power Company, Kingsport Power Company, Columbus Southern Power Company, Kentucky Power Company, Wheeling Power Company, AEP Texas North Company.

Description: Indiana Michigan Power Company submits tariff filing per 35.12: APCo OATT Baseline 20100831 to be effective 9/1/2010.

Filed Date: 08/31/2010.

Accession Number: 20100831-5223.

Comment Date: 5 p.m. Eastern Time on Tuesday, September 21, 2010.

Docket Numbers: ER10-2504-000.

Applicants: Shiloh Wind Project 2, LLC.

Description: Shiloh Wind Project 2, LLC submits tariff filing per 35.12: Shiloh Wind Project 2 LLC Market-Based Rate Tariff Baseline Filing to be effective 8/31/2010.

Filed Date: 08/31/2010.

Accession Number: 20100831-5224.

Comment Date: 5 p.m. Eastern Time on Tuesday, September 21, 2010.

Docket Numbers: ER10-2505-000.

Applicants: Northwest Wind Partners, LLC.

Description: Northwest Wind Partners, LLC submits tariff filing per 35.12: Northwest Wind Partners LLC Market-Based Rate Tariff Baseline Filing to be effective 8/31/2010.

Filed Date: 08/31/2010.

Accession Number: 20100831-5228.

Comment Date: 5 p.m. Eastern Time on Tuesday, September 21, 2010.

Docket Numbers: ER10-2506-000.

Applicants: Westar Energy, Inc.

Description: Westar Energy, Inc. submits tariff filing per 35.12: Westar Energy, Cost-Based Tariff Baseline Tariff Filing to be effective 8/31/2010.

Filed Date: 08/31/2010.

Accession Number: 20100831-5229.

Comment Date: 5 p.m. Eastern Time on Tuesday, September 21, 2010.

Docket Numbers: ER10-2507-000.

Applicants: Westar Energy, Inc.

Description: Westar Energy, Inc. submits its Baseline Filing of its Market-Based Rate Tariff, FERC Electric Tariff, Fourth Revised Volume No 6. to comply with Order No. 714, to be effective 9/1/2010.

Filed Date: 09/01/2010.

Accession Number: 20100901-5003.

Comment Date: 5 p.m. Eastern Time on Wednesday, September 22, 2010.

Docket Numbers: ER10-2508-000.

Applicants: Pacific Gas and Electric Company.

Description: Notice of Termination for GWF LLC GSFA and GIA of Pacific Gas and Electric Company.

Filed Date: 08/31/2010.

Accession Number: 20100831-5241.

Comment Date: 5 p.m. Eastern Time on Tuesday, September 21, 2010.

Docket Numbers: ER10-2509-000.

Applicants: Otter Tail Power Company.

Description: Otter Tail Power Company submits tariff filing per 35: Transmission Capacity Exchange Agreement Compliance to be effective 12/31/1998.

Filed Date: 09/01/2010.

Accession Number: 20100901-5044.

Comment Date: 5 p.m. Eastern Time on Wednesday, September 22, 2010.

Docket Numbers: ER10-2510-000.

Applicants: Goshen Phase II LLC.

Description: Goshen Phase II, LLC submits Shared Facilities Agreement between Goshen II, RAE, and AE Power Services, LLC, effective 9/1/10.

Filed Date: 08/31/2010.

Accession Number: 20100901-0206.

Comment Date: 5 p.m. Eastern Time on Tuesday, September 21, 2010.

Docket Numbers: ER10-2511-000.

Applicants: PacifiCorp.

Description: PacifiCorp submits Network Integration Transmission Service Agreement between Bonneville Power Administration, et al.

Filed Date: 08/31/2010.

Accession Number: 20100901-0207.

Comment Date: 5 p.m. Eastern Time on Tuesday, September 21, 2010.

Docket Numbers: ER10-2512-000.

Applicants: New England Power Pool.

Description: New England Power Pool Participants Committee submits counterpart signature pages of the NEPOOL, dated as of 9/1/71, as amended executed by Hexis Energy et al.

Filed Date: 08/31/2010.

Accession Number: 20100901-0208.

Comment Date: 5 p.m. Eastern Time on Tuesday, September 21, 2010.

Docket Numbers: ER10-2513-000.

Applicants: Alta Wind II, LLC.

Description: Alta Wind II, LLC submits petitions for order accepting market-based rate tariff for filing and granting waivers and blanket approvals.

Filed Date: 08/31/2010.

Accession Number: 20100901-0209.

Comment Date: 5 p.m. Eastern Time on Tuesday, September 21, 2010.

Docket Numbers: ER10-2514-000.

Applicants: Alta Wind III, LLC.

Description: Petition of Alta Wind III, LLC for order accepting market-based rate tariff for filing and granting waivers and blanket approvals.

Filed Date: 08/31/2010.

Accession Number: 20100901-0210.

Comment Date: 5 p.m. Eastern Time on Tuesday, September 21, 2010.

Docket Numbers: ER10-2515-000.

Applicants: Alta Wind IV, LLC.

Description: Alta Wind IV, LLC submits petitions for order accepting market-based rate tariff for filing and granting waivers and blanket approvals.

Filed Date: 08/31/2010.

Accession Number: 20100901-0211.

Comment Date: 5 p.m. Eastern Time on Tuesday, September 21, 2010.

Docket Numbers: ER10-2516-000.

Applicants: Alta Wind V, LLC.

Description: Petition of Alta Wind V, LLC for order accepting market-based rate tariff for filing and granting waivers and blanket approvals.

Filed Date: 08/31/2010.

Accession Number: 20100901-0212.

Comment Date: 5 p.m. Eastern Time on Tuesday, September 21, 2010.

Docket Numbers: ER10-2517-000.

Applicants: New York Independent System Operator, Inc.

Description: New York Independent System Operator submits tariff filing per 35.13(a)(2)(iii): NYISO 205—Pre-Scheduled Transaction Capability—Bluvas 9/1/10 to be effective 1/19/2011.

Filed Date: 09/01/2010.

Accession Number: 20100901-5130.

Comment Date: 5 p.m. Eastern Time on Wednesday, September 22, 2010.

Docket Numbers: ER10-2518-000.

Applicants: New Brunswick Power Generation Corporation.

Description: New Brunswick Power Generation Corporation submits tariff filing per 35.12: NB Power MBR Tariff to be effective 9/2/2010.

Filed Date: 09/01/2010.

Accession Number: 20100901-5144.

Comment Date: 5 p.m. Eastern Time on Wednesday, September 22, 2010.

Take notice that the Commission received the following electric securities filings:

Docket Numbers: ES10-57-000.

Applicants: Ameren Services Company.

Description: Application of Ameren Illinois Co. for Section 204 Authorization.

Filed Date: 08/31/2010.

Accession Number: 20100831-5251.

Comment Date: 5 p.m. Eastern Time on Tuesday, September 21, 2010.

Take notice that the Commission received the following electric reliability filings:

Docket Numbers: RD10-14-001.

Applicants: North American Electric Reliability Corporation.

Description: Second Quarter 2010 Compliance Filing of the North American Electric Reliability Corporation in Response to Paragraph 629 of Order No. 693 and Request to Terminate Compliance Filing Obligation.

Filed Date: 08/31/2010.

Accession Number: 20100831-5154.

Comment Date: 5 p.m. Eastern Time on Thursday, September 09, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification or (self-recertification) listed above, do not institute a proceeding regarding qualifying facility status. A notice of self-certification (or self-recertification) simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-22601 Filed 9-9-10; 8:45 am]

BILLING CODE 6717-01-P